DEPARTMENT OF HOMELAND SECURITY

U.S. Customs and Border Protection

[Docket No. USCBP-2006-0037]

Expansion of Global Entry Pilot to Mexican Nationals

AGENCY: U.S. Customs and Border Protection; Department of Homeland Security.

ACTION: General notice and request for comments.

SUMMARY: U.S. Customs and Border Protection (CBP) is conducting an international trusted traveler pilot program, referred to as the Global Entry pilot, at several major U.S. airports. Currently, eligibility is limited to U.S. citizens, U.S. nationals, U.S. lawful permanent residents (LPRs), and certain eligible citizens of the Netherlands. This document announces that pursuant to a Joint Declaration between the U.S. Department of Homeland Security and the Secretariat of Governance of the United Mexican States, CBP is expanding eligibility for participation in the Global Entry pilot to include qualified nationals of Mexico who otherwise satisfy the requirements for participation in the Global Entry pilot.

DATES: Effective Dates: The expansion of eligibility in the Global Entry pilot to qualified nationals of Mexico will occur on December 29, 2010. Applications are currently being accepted from U.S. citizens, U.S. nationals, U.S. lawful permanent residents, and certain eligible citizens of the Netherlands and will be accepted for the duration of the pilot. Applications will be accepted from nationals of Mexico beginning December 29, 2010. Comments concerning this notice and all aspects of the announced pilot may be submitted throughout the duration of the pilot.

ADDRESSES: You may submit comments, identified by “USCBP-2006-0037,” by one of the following methods:

• Federal eRulemaking Portal: http://www.regulations.gov. Follow the instructions for submitting comments.

• Mail: Border Security Regulations Branch, Regulations and Rulings, Office of International Trade, U.S. Customs and Border Protection, Mint Annex, 799 9th Street, NW., Washington, DC 20229.

Instructions: All submissions received must include the agency name, document title, and docket number (USCBP-2006-0037) for this notice. All comments received will be posted without change to http://www.regulations.gov, including any personal information provided.

Docket: For access to the docket to read background documents or comments received go to http://www.regulations.gov. Submitted comments may also be inspected during regular business days between the hours of 9 a.m. and 4:30 p.m. at the Office of Regulations and Rulings, Office of International Trade, U.S. Customs and Border Protection, 799 9th Street, NW., 5th Floor, Washington, DC. Arrangements to inspect submitted comments should be made in advance by calling Mr. Joseph Clark at (202) 325-0118.

Applications for the Global Entry pilot are available via the CBP Global Entry Web site, http://www.globalentry.gov or through the Global On-Line Enrollment System (GOES) Web site, https://goes-app.cbp.dhs.gov. Applications must be completed and submitted electronically.

FOR FURTHER INFORMATION CONTACT: Larry Panetta, Office of Field Operations, (202) 344-1253.

SUPPLEMENTARY INFORMATION:

Background

In a notice published in the Federal Register on April 11, 2008 (73 FR 19861), CBP announced an international trusted traveler pilot program, then referred to as International Registered Traveler (IRT) program, which was scheduled to commence operations at three initial U.S. airports on June 10, 2008. In a subsequent notice published in the Federal Register on May 27, 2008 (73 FR 30416), CBP changed the name of the pilot program from IRT to Global Entry and moved up the starting date to June 6, 2008.

The Global Entry pilot allows for the expedited clearance of pre-approved, low-risk travelers into the United States. Currently, eligibility is limited to U.S. citizens, U.S. nationals, U.S. lawful permanent residents (LPRs), and certain eligible citizens of the Netherlands. The initial Federal Register notice published on April 11, 2008 contained a detailed description of the program, the eligibility criteria and the application and selection process, and the initial airport locations: John F. Kennedy International Airport, Jamaica, New York, Terminal 4 (JFK); the George Bush Intercontinental Airport, Houston, Texas (IAH); and the Washington Dulles International Airport, Sterling, Virginia (IAD). CBP chose these initial airports due to the large numbers of travelers that arrive at those locations from outside the United States.

On August 13, 2008, in a notice published in the Federal Register (73 FR 47204), CBP announced that the Global Entry pilot had expanded to include all terminals at JFK and four additional airports: Los Angeles International Airport, Los Angeles, California (LAX); Hartsfield-Jackson Atlanta International Airport, Atlanta, Georgia (ATL); Chicago O'Hare International Airport, Chicago, Illinois (ORD); and Miami International Airport, Miami, Florida (MIA). Additionally, on April 23, 2009, in a notice published in the Federal Register (74 FR 18586), pursuant to an arrangement between the United States and the Netherlands, CBP expanded eligibility for participation in the Global Entry pilot to include citizens of the Netherlands who participate in Privium, an expedited travel program in the Netherlands.

On August 10, 2009, in a notice published in the Federal Register (74 FR 39965), CBP announced that the Global Entry pilot had again expanded to include thirteen additional airports: Newark Liberty International Airport, Newark, New Jersey (EWR); San Francisco International Airport, San Francisco, California (SFO); Orlando International Airport, Orlando, Florida (MCO); Detroit Metropolitan Wayne County Airport, Romulus, Michigan (DTW); Dallas Fort Worth International Airport, Dallas, Texas (DFW); Honolulu International Airport, Honolulu, Hawaii (HNL); Boston-Logan International Airport, Boston, Massachusetts (BOS); Las Vegas-McCarran International Airport, Las Vegas, Nevada (LAS); Sanford-Orlando International Airport, Sanford, Florida (SSB); Seattle-Tacoma International Airport-SEATAC, Seattle, Washington (STT); Philadelphia International Airport, Philadelphia, Pennsylvania (PHL); San Juan-Luis Munos Marin International Airport, San Juan, Puerto Rico (SAJ) and Ft. Lauderdale Hollywood International Airport, Fort Lauderdale, Florida (FLL).

Operations

The Global Entry pilot allows pilot participants expedited entry into the United States at any of the designated airport locations by using automated kiosks located in the Federal Inspection Services (FIS) area of each airport. The Global Entry pilot uses fingerprint biometrics technology to verify a participant's identity and confirm his or her status as a participant.

Global Entry pilot participants do not have to wait in the regular passport control primary inspection lines. After arriving at the FIS area, participants proceed directly to the Global Entry kiosk. A sticker affixed to the participant's passport at the time of acceptance in the Global Entry pilot provides visual identification that the individual can be referred to the kiosk.

After arriving at the kiosk, participants activate the system by inserting either a machine-readable passport or a machine-readable U.S. permanent resident card (Form I-551) into the document reader. On-screen instructions guide participants to provide fingerprints electronically. These fingerprints are compared with the fingerprint biometrics on file to validate identity and confirm that the individual is a member of the program. Participants are also prompted to look at the camera for a digital photograph and to respond to several customs declaration questions by use of a touch-screen.

When the procedures at the kiosk have been successfully completed, participants are issued a transaction receipt. This receipt must be provided along with the passport or permanent resident card to the CBP Officer at the exit control area who will examine and inspect these documents. CBP officers stationed in booths next to the kiosk lanes also oversee activities at the kiosk.

Declarations

When using the Global Entry kiosks, Global Entry pilot participants are required to declare all articles being brought into the U.S. pursuant to 19 CFR 148.11.

If a Global Entry pilot participant declares any of the following, the kiosk redirects that user to the head of the line at the nearest, open passport control, primary inspection station:

(a) Commercial merchandise or commercial samples, or items that exceed the applicable personal exemption amount;

(b) More than $10,000 in currency or other monetary instruments (checks, money orders, etc.), or foreign equivalent in any form; or

(c) Restricted/prohibited goods, such as agricultural products, firearms, mace, pepper spray, endangered animals, birds, controlled substances, fireworks, Cuban goods, and plants.

Global Entry pilot participants may also be subject to further examination and inspection as determined by CBP Officers at any time during the arrival process.

For a more detailed description of the Global Entry pilot, please refer to the April 11, 2008 Federal Register notice, 73 FR 19861.

Notice of Proposed Rulemaking To Establish the Global Entry Pilot as a Permanent Program

In a Notice of Proposed Rulemaking (NPRM), published in the Federal Register on November 19, 2009 (74 FR 59932), CBP proposed establishing the Global Entry pilot as a permanent voluntary international trusted traveler program which would operate in a manner similar to the Global Entry pilot. The comment period has closed and CBP is in the process of analyzing the comments. As provided in the NPRM, current participants in the Global Entry pilot would be automatically enrolled in Global Entry once the permanent Global Entry program is finalized. Although it is projected that the Global Entry program will eventually operate at all major international airports, at the start of the program, it is anticipated that its operation would initially be limited to the airports participating in the pilot.

Expanded Eligibility for the Global Entry Pilot

Eligibility criteria for participation in the Global Entry pilot are also set forth in detail in the April 11, 2008 Federal Register notice. To date, only U.S. citizens, U.S. nationals, U.S. LPRs, and certain citizens of the Netherlands are eligible to participate in the pilot. However, as explained in the November 19, 2009 NPRM, CBP is working to expand the eligibility of the Global Entry pilot to certain nonimmigrant aliens from countries that have entered into arrangements with CBP concerning international trusted traveler programs. The notice stated that such expansions of the pilot would be announced by publication in the Federal Register and would include the country and any conditions that may apply based on the terms of the arrangement. The notice also stated that CBP anticipates that if the United States enters into such a Global Entry arrangement during the period of the pilot and announces the arrangement in the Federal Register, the participating citizens of that country would be automatically enrolled in the permanent Global Entry program once it is established.

Expansion of Global Entry Pilot To Include Nationals of Mexico

On November 30, 2010, the U.S. Department of Homeland Security signed a Joint Declaration with the Secretariat of Governance of the United Mexican States regarding cooperation on the development of an international trusted traveler pilot consisting of two phases. Phase 1 is the CBP Global Entry phase expected to offer expedited travel into the United States for Mexican nationals who meet CBP Global Entry program requirements following screening of applicants by both countries. Phase 2 is the Mexico Trusted Traveler Program phase expected to include development of a Mexican trusted traveler program that offers expedited travel to Mexico for U.S. citizens and Mexican nationals and other eligible applicants, who meet mutually determined criteria.

Consistent with Phase 1 of this Joint Declaration, CBP is expanding eligibility for the Global Entry pilot. Specifically, nationals of Mexico will now be able to apply for participation in the Global Entry pilot. In order to participate, Mexican nationals will be required to complete the on-line application located on the GOES Web site, pay the non-refundable $100 per person applicant processing fee, and satisfy all the requirements of the Global Entry pilot.

Based on the Joint Declaration, Mexican nationals will be permitted to participate in the Global Entry pilot only upon successful completion of a thorough risk assessment by both CBP and the Mexican Government. As is the case with all Global Entry pilot applicants, an individual who is inadmissible to the United States under U.S. immigration law is ineligible to participate in the Global Entry pilot. Applications from such individuals will automatically be rejected. Applications for the Global Entry pilot may also be rejected if the applicant has ever been convicted of a criminal offense, or if the individual has ever been found in violation of customs or immigration laws, or of any criminal law. Additionally, an applicant will not be accepted for participation in the Global Entry pilot if CBP determines that the applicant presents a potential risk of terrorism, or criminality (including smuggling), or if CBP cannot sufficiently determine that the applicant meets all the program eligibility criteria. CBP will be accepting applications from eligible nationals of Mexico beginning December 29, 2010. Additional information on eligibility will be announced at http://www.globalentry.gov.

All other aspects of the Global Entry pilot as described in the previous notices remain in effect.

U.S. Citizens Participation in Mexico's Trusted Traveler Program

Consistent with Phase 2 of the Joint Declaration with the Mexican government, U.S. citizens who participate in the Global Entry pilot will have the option to apply for participation in Mexico's trusted traveler program, once such a program is established. Once that program is established, it will be announced on CBP's Web site.

Dated: December 23, 2010.
Thomas S. Winkowski,
Assistant Commissioner, Office of Field Operations.

[FR Doc. 2010-32832 Filed 12-28-10; 8:45 am]

BILLING CODE 9111-14-P